DEPARTMENT OF COMMERCE

International Trade Administration

[C-351-867]

High Purity Dissolving Pulp From Brazil: Postponement of Preliminary Determination in the Countervailing Duty Investigation

AGENCY: Enforcement and Compliance, International Trade Administration, Department of Commerce.

DATES: Applicable September 29, 2025.

FOR FURTHER INFORMATION CONTACT: Gorden Struck at (202) 482-8151 and Sarah Keith at (202) 482-0264, respectively, AD/CVD Operations, Enforcement and Compliance, International Trade Administration, U.S. Department of Commerce, 1401 Constitution Avenue NW, Washington, DC 20230.

SUPPLEMENTARY INFORMATION:

Background

On September 8, 2025, the U.S. Department of Commerce (Commerce) initiated a countervailing duty (CVD) investigation of imports of high purity dissolving pulp (dissolving pulp) from Brazil.¹ Currently, the preliminary determination is due no later than November 6, 2025.

¹ See High Purity Dissolving Pulp from Brazil: Initiation of Countervailing Duty Investigation, 90 FR 43174 (September 8, 2025) (Initiation Notice).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination in a CVD investigation until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On September 22, 2025, the petitioners ² submitted a timely request that Commerce postpone the preliminary CVD determination.³ The petitioners stated that postponement of the preliminary determination is necessary to allow petitioners and Commerce sufficient time to evaluate the initial questionnaire responses submitted by the Government of Brazil (GOB) and Bracell Bahia Specialty Celulose SA (Bracell), the mandatory respondent, before submitting LTAR benchmark information or new subsidy allegations.⁴ Extending the preliminary determination will also ensure there is sufficient time to issue supplemental questionnaires to the GOB and Bracell, as necessary, and sufficient time to evaluate all relevant subsidy programs.⁵

² The petitioners are Rayonier Advanced Materials Inc. and the United Steel, Paper and Forestry, Rubber, Manufacturing, Energy, Allied Industrial and Service Workers International Union, AFL-CIO.

³ See Petitioners' Letter, “Petitioners' Request to Fully Extend the Preliminary Determination,” dated September 22, 2025.

⁴ Id.

⁵ Id.

In accordance with 19 CFR 351.205(e), the petitioner submitted its request for postponement of the preliminary determination in this investigation 25 days or more before the scheduled date of the preliminary determination and stated the reasons for its request. Commerce finds no compelling reason to deny the request. Therefore, in accordance with section 703(c)(1)(A) of the Act, Commerce is postponing the deadline for the preliminary determinations in these investigations to no later than 130 days after the date on which it initiated this investigation, i.e., January 12, 2026.⁶ Pursuant to section 705(a)(1) of the Act and 19 CFR 351.210(b)(1), the deadline for the final determinations of these investigations will continue to be 75 days after the date of the preliminary determinations.

⁶ Because the deadline for these submissions falls on the weekend (i.e., January 10, 2026), the deadline became the next business day (i.e., January 12, 2026). See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: September 24, 2025.
Christopher Abbott,
Deputy Assistant Secretary for Policy and Negotiations, performing the non-exclusive functions and duties of the Assistant Secretary for Enforcement and Compliance.

[FR Doc. 2025-18881 Filed 9-26-25; 8:45 am]

BILLING CODE 3510-DS-P